DEPARTMENT OF HOUSING AND URBAN DEVELOPMENT

[Docket No. FR-7034-N-14]

7-Day Notice of Emergency Approval of an Information Collection: Collection of Required Information for CARES Act Quarterly Reporting, OMB Control No.: 2535-XXXX

AGENCY: Office of the Chief Information Officer, HUD.

ACTION: Notice.

SUMMARY: In accordance with the Paperwork Reduction Act of 1995, HUD has requested from the Office of Management and Budget (OMB) emergency approval of the information collection described in this notice.

DATES: Comments Due Date: March 31, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna Guido, Reports Management Officer, QDAM, Department of Housing and Urban Development, 451 7th Street SW, Washington, DC 20410; email Anna Guido at Anna.P.Guido@hud.gov or telephone 202-402-5535. Persons with hearing or speech impairments may access this number through TTY by calling the toll-free Federal Relay Service at (800) 877-8339. This is not a toll-free number. Copies of available documents submitted to OMB may be obtained from Ms. Guido.

SUPPLEMENTARY INFORMATION: This notice informs the public that HUD has submitted to OMB a request for approval of the information collection described in Section A.

A. Overview of Information Collection

Title of Information Collection: Collection of Required Information for CARES Act Quarterly Reporting.

OMB Approval Number: Pending.

Type of Request New.

Form Number: Forms associated to collections listed below.

Description of the need for the information and proposed use: On March 27, 2020, the “Coronavirus Aid, Relief, and Economic Security Act” (CARES Act) was signed into law. The CARES Act provided $12.4 billion in additional FY2020 funding for HUD to prevent, prepare for, and respond to COVID-19, including providing additional resources to meet emerging needs, support existing rental assistance programs, and to support capacity and oversight. The award provides HUD recipients the flexibility to meet evolving COVID-19 needs in their respective communities, including extending operational hours, increasing staffing hours, purchasing additional equipment, enhancing workforce training and capacity development, and providing critical housing services to people during this pandemic.

The U.S. Department of Housing and Urban Development requests a clearance of this information collection request to allow for immediate outreach to Large Covered Funds recipients, defined as recipients of CARES Grant amounts over $150,000. This information collection request will enable the U.S. Department of Housing and Urban Development (HUD) to collect the quarterly information required to be in compliance with the requirements outlined in section 15011 of the CARES Act. Reporting provisions include that not later than 10 days after the end of each calendar quarter, each covered recipient shall submit to the agency and the committee a report that contains (A) the total amount of large covered funds received from the agency; (B) the amount of large covered funds received that were expended or obligated for each project or activity; (C) a detailed list of all projects or activities for which large covered funds were expended or obligated, including (i) the name of the project or activity; (ii) a description of the project or activity; and (iii) the estimated number of jobs created or retained by the project or activity.

The Director of the Office of Management and Budget, in consultation with the Secretary of the Treasury, the Administrator of the Small Business Administration, and the Chairperson of the Council of Economic Advisors, shall submit to the appropriate congressional committees and publicly release on the website established under section 15010(g) quarterly reports that detail the impact of programs funded through large covered funds on employment, estimated economic growth, and other key economic indicators, including information about impacted industries.

This information will be reported by the grant recipients to the program offices within HUD, then aggregated with the related information already being captured today. This aggregated information will form the required quarterly reporting for CARES Act funds that HUD submits to the Pandemic Response Accountability Committee (PRAC).

For those programs where this would be an increase in the frequency of the information currently reported by moving from annual to quarterly reporting, the actual use of the information currently collected is the quarterly submission file to the PRAC.

Respondents (i.e. affected public): The respondents for this information collection request are the HUD program recipients of large covered funds provided by the CARES ACT, as defined in the above section.

Estimated Number of Respondents: There are an estimated 3,700 potential respondents across all HUD programs based on the obligations data from USASpending.gov as of March 4, 2021.

Frequency of Response: This information is to be captured quarterly, as outlined in the reporting requirements section of the CARES Act.

Related Forms and Processes Currently in Place: The following table outlined the related forms that will be impacted as part of this collection effort:

Information collection | Number of respondents | Frequency of response | Responses per annum | Burden hour per response | Annual burden hours | Hourly cost per response | Annual cost
CDBG | 1,209 | 3 | 3,627 | 14.18 | 51,445 | 35.16 | $1,808,794
ESG | 2,360 | 3 | 7,080 | 2.94 | 20,832 | 39.96 | 832,428
HOPWA | 128 | 3 | 384 | 6.97 | 2,676 | 25.35 | 67,849
Total | 3,697 | 3 | 11,091 |  | 74,953 |  | 2,709,071
*Please note: The table above is only reflective of the existing PRAs for CPD programs, with the total current number potential respondents across all HUD programs (based on the obligations data from USASpending.gov as of March 4, 2021) is estimated to be 5,000.

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Anna Guido,
Department Reports Management Officer, Office of the Chief Information Officer.

[FR Doc. 2021-06015 Filed 3-23-21; 8:45 am]

BILLING CODE 4210-67-P